DEPARTMENT OF THE INTERIOR

Bureau of Land Management

[WY-957-07-1910-BJ-5GKW]

Notice of Filing of Plats of Survey, Nebraska

AGENCY: Bureau of Land Management, Interior.

ACTION: Notice of filing of plats of survey, Nebraska.

SUMMARY: The Bureau of Land Management (BLM) is scheduled to file the plats of survey of the lands described below thirty (30) calendar days from the date of this publication in the BLM Wyoming State Office, Cheyenne, Wyoming.

FOR FURTHER INFORMATION CONTACT: Bureau of Land Management, 5353 Yellowstone Road, P.O. Box 1828, Cheyenne, Wyoming 82003.

SUPPLEMENTARY INFORMATION: This survey was executed at the request of the Bureau of Indian Affairs and is necessary for the management of these lands. The lands surveyed are:

The plats and field notes representing the dependent resurvey of portions of the Sixth Standard Parallel North, through Range 10 East, the east and west boundaries, the subdivisional lines, the subdivision of section lines, and the original 1867 meander line of the right bank of the Missouri River, the corrective dependent resurvey of portions of the Sixth Standard Parallel North, through Range 10 East, the subdivisional lines, and the subdivision of section lines, and the survey of the subdivision of certain sections, Township 24 North, Range 10 East, of the Sixth Principal Meridian, Nebraska, was accepted March 8, 2007.

Copies of the preceding described plat and field notes are available to the public at a cost of $1.10 per page.

Dated: March 12, 2007.
John P. Lee,
Chief Cadastral Surveyor, Division of Support Services.

[FR Doc. E7-4922 Filed 3-16-07; 8:45 am]

BILLING CODE 4467-22-P